DEPARTMENT OF COMMERCE

National Oceanic and Atmospheric Administration

[I.D. 082302B]

Gulf of Mexico Fishery Management Council; Public Meetings

AGENCY: National Marine Fisheries Service (NMFS), National Oceanic and Atmospheric Administration (NOAA), Commerce.

ACTION: Notice of public meeting.

SUMMARY: The Gulf of Mexico Fishery Management Council (Council) will convene public meetings.

DATES: The meetings will be held on September 9-12, 2002.

ADDRESSES: These meetings will be held at the DoubleTree Hotel Lakeside New Orleans, 3838 North Causeway Boulevard, Metairie, LA 70002; telephone: 504-836-5253.

Council address: Gulf of Mexico Fishery Management Council, 3018 U.S. Highway 301 North, Suite 1000, Tampa, FL 33619.

FOR FURTHER INFORMATION CONTACT: Wayne E. Swingle, Executive Director, Gulf of Mexico Fishery Management Council; telephone: (813) 228-2815.

SUPPLEMENTARY INFORMATION:

Council

September 11

8:30 a.m.-Convene.

8:45 a.m.- 11:30 a.m.-Receive public testimony on the Secretarial Reef Fish Amendment 2 and the Regulatory Amendment for status determination criteria and king mackerel total allowable catch (TAC).

1 p.m.-2:30 p.m.-Receive the report of the Vessel Monitoring Committee.

2:30 p.m.- 3 p.m.-Receive the report of the Habitat Protection Committee.

3 p.m.-4 p.m.-Receive the report of the Mackerel Management Committee.

4 p.m.-4:30 p.m.-Receive the report of the Budget Committee.

4:30 p.m.-4:45 p.m.-(Closed Session) Appoint persons to Scientific and Statistical Committees.

September 12

8:30 a.m.-10 a.m.-Receive the report of the Reef Fish Management Committee.

10 a.m.-10:15 a.m.-Receive the Gulf Safety Committee Report.

10:15 a.m.-10:30 a.m.-Receive Enforcement Reports.

10:30 a.m.-10:45 a.m.-Receive the NMFS Regional Administrator's Report.

10:45 a.m.-11:15 a.m.-Receive Director's Reports.

11:15 a.m.- 11:30 a.m.-Other Business

11:30 a.m.- 11:45 a.m.-Election of Chairman and Vice-Chairman.

September 9, 2002

8 a.m-9 a.m.-Orientation Session for New Members.

9 a.m.-11:30 a.m.-Convene the Vessel Monitoring Committee to hear a NMFS presentation on the vessel monitoring system (VMS) program.

1 p.m.-2 p.m.-Convene the Budget Committee to review the CY 2003 budget.

2 p.m.- 5:30 p.m.-Convene the Habitat Protection Committee to hear reports on sargassum as essential fish habitat (EFH), methylmercury, and the NOAA-GOM-GIS project. They will also hear a legal opinion on prey species as it will be used in the EFH environmental impact statement (EIS), and discuss the classification of artificial reefs and oil structures as EFH.

September 10

8:30 a.m.-11:30 a.m-Convene the Mackerel Management Committee to review and make recommendations on a regulatory amendment for king mackerel TAC and status determination criteria. They will also hear a report on the South Atlantic Fishery Management Council's (SAFMC) action on the Dolphin/Wahoo Fishery Management Plan (FMP).

1 p.m.-5:30 p.m.-Convene the Reef Fish Management Committee to to review and make recommendations for final action on the Secretarial Reef Fish Amendment 2 for Greater Amberjack. They will also review an options paper for Reef Fish Amendment 18 and hear a presentation on the SAW/SARC process. They will discuss a letter to the Secretary of Commerce on a fishing capacity reduction program, and will review the red snapper rebuilding plan regulatory amendment scoping document.

Although non-emergency issues not contained in the agenda may come before the Council for discussion, in accordance with the Magnuson-Stevens Fishery Conservation and Management Act (Magnuson Act), those issues may not be the subject of formal Council action during this meeting. Council action will be restricted to those issues specifically identified in this notice and any issues arising after publication of this notice that require emergency action under section 305 (c) of the Magnuson Act, provided the public has been notified of the Council's intent to take final action to address the emergency. A copy of the Committee schedule and agenda can be obtained by calling (813) 228-2815.

Special Accommodations

These meetings are physically accessible to people with disabilities. Requests for sign language interpretation or other auxiliary aids should be directed to Anne Alford at the Council (see ADDRESSES) by August 30, 2002.

Dated: August 23, 2002.
Richard W. Surdi,
Acting Director, Office of Sustainable Fisheries, National Marine Fisheries Service

[FR Doc. 02-21973 Filed 8-27-02; 8:45 am]

BILLING CODE 3510-22-S